DEPARTMENT OF JUSTICE

Office of Justice Programs

[OJP (OVW) Docket No. 1414]

Notice of Cancellation of Meeting

AGENCY: Office on Violence Against Women, DOJ.

ACTION: Notice of cancellation of meeting.

SUMMARY: This notice cancels the public meeting of the National Advisory Committee on Violence Against Women scheduled for December 7, 2004, from 8:30 a.m. to 4 p.m.

DATES: The cancelled meeting was scheduled to take place on December 7, 2004, from 8:30 a.m. to 4 p.m.

FOR FURTHER INFORMATION CONTACT: Jana Sinclair White, The National Advisory Committee on Violence Against Women, 810 Seventh Street, NW., Washington, DC, 20531; by telephone at: (202) 353-4343; e-mail: Jana.S.White@usdoj.gov; or fax: (202) 307-3911. You may also view the Committee's Web site at: http://www.ojp.usdoj.gov/vawo/nac/welcome.html.

Dated: November 30, 2004.
Margaret Davis,
Principal Deputy Director, Office on Violence Against Women.

[FR Doc. 04-26683 Filed 12-3-04; 8:45 am]

BILLING CODE 4410-18-P